ELECTION ASSISTANCE COMMISSION

Sunshine Act Notice

AGENCY: United States Election Assistance Commission.

ACTION: Notice of Public Meeting.

DATE AND Time: Thursday, February 7, 2008 10 a.m.-1 p.m.

Place: Hyatt Regency on Capitol Hill, 400 New Jersey Avenue, NW., Washington, DC 20001. (Metro Stop: Union Station).

Agenda: Commissioners will receive an update on HAVA Funding Issues. Commissioners will consider and vote on the following studies: Study on Feasibility of Free Absentee Voting Postage; Study on use of Social Security Information of First Time Voters Who Register to Vote by Mail. Commissioners will consider and vote on an Interim Policy for Changes to State Specific Instructions on National Mail Voter Registration Form. Commissioners will consider and vote on a Disclaimer proposal to State Instructions Portion of the NVRA Form. The Commission will consider other administrative matters.

This meeting will be open to the public.

Person To Contact For Information: Bryan Whitener, Telephone: (202) 566-3100.

Thomas R. Wilkey,
Executive Director, U.S. Election Assistance Commission.

[FR Doc. 08-423 Filed 1-25-08; 4:13 pm]

BILLING CODE 6820-KF-M